DEPARTMENT OF LABOR

Office of Disability Employment Policy

[SGA 03-08]

Home Modification Grants

AGENCY: Office of Disability Employment Policy, Department of Labor.

ACTION: Notice of availability of funds; solicitation for grant applications (SGA).

This notice contains all of the necessary information and forms needed to apply for grant funding. (SGA 03-08).

SUMMARY: The U.S. Department of Labor (DOL), the Office of Disability Employment Policy (ODEP) announces the availability of $500,000 to award up to ten competitive grants in the amount of $50,000 to $100,000 each to provide home modifications as a means of further expanding the community integration of individuals with disabilities, and particularly those seeking employment. Grants will be awarded for a 12-month period of performance. After one year of support, it is anticipated that the grantees will have identified and developed the funds and resources needed to continue the expansion of such home modification programs within their respective localities.

For people with disabilities and older Americans, an often-cited barrier to participation in work and community life is the lack of affordable home modifications, such as ramps, widened doorways, lowered countertops and cabinetry accessible to those who use wheelchairs. Such modifications can often mean the difference between working and being unemployed, between being a taxpayer and a recipient of public assistance, and between true presence and participation in one's community and living in a nursing home. In Olmstead v. L.C., 527 U.S. 581, 119 S.Ct. 2176 (1999) (the “Olmstead decision”), the Supreme Court construed Title II of the Americans with Disabilities Act (ADA) to require states to place qualified individuals with mental disabilities in community settings, rather than in institutions, whenever treatment professionals determine that such placement is appropriate, the affected persons do not oppose such placement, and the state can reasonably accommodate the placement, taking into account the resources available to the state and the needs of others with disabilities.

In Olmstead, the Supreme Court stated that institutional placements of people with disabilities who can live in, and benefit from, community settings perpetuates the unwarranted assumptions that persons so isolated are incapable or unworthy of participating in community life. The Supreme Court stated that “recognition that unjustified institutional isolation of persons with disabilities is a form of discrimination reflect[ed] two evident judgements”: (1) “institutional placements of people with disabilities who can live in, and benefit from, community settings perpetuates the unwarranted assumptions that persons so isolated are incapable or unworthy of participating in community life”; and (2) “confinement in an institution severely diminishes everyday life activities of individuals, including family relations, social contacts, work options, economic independence, educational advancement, and cultural enrichment.” Olmstead, 119 S.Ct. 2176, 2179, 2187 [emphasis added]. This decision affects not only all persons in institutions and segregated settings, but also people with disabilities who are at risk of institutionalization, including people with disabilities on waiting lists to receive community based services and supports. The President has made it very clear, through his New Freedom Initiative and through his Executive Order to Federal Agencies on the implementation of the Olmstead decision, that every effort should be expended to ensure that people can live and work in their communities and are not forced to live in congregate facilities and to give up any hope of employment.

The purpose of these grants, therefore, is to encourage the development of home modifications as a means to support individuals with disabilities as they seek and maintain employment.

DATES: Applications will be accepted May 29, 2003. The closing date for receipt of applications under this announcement is July 14, 2003. Applications must be received by 4:45 p.m. (ET) at the address below. No exceptions to the mailing and hand-delivery conditions set forth in this notice will be granted. Applications that do not meet the conditions set forth in this notice will be considered non-responsive.

ADDRESSES: Applications shall be mailed to: U.S. Department of Labor, Procurement Services Center, Attention: Cassandra Willis, Reference SGA 03-08, Room N-5416, 200 Constitution Avenue, NW., Washington, DC 20210. Telefacsimile (Fax) applications will not be accepted. Applicants are advised that mail delivery in the Washington area may be delayed due to mail decontamination procedures.

FOR FURTHER INFORMATION CONTACT: Cassandra Willis, U.S. Department of Labor, Procurement Services Center, telephone (202) 693-4570 (this is not a toll-free number), prior to the closing deadline. Persons who are deaf or hard of hearing may contact DOL via the Federal Relay Service, (800) 877-8339. This announcement will also be published on the Internet on the ODEP's online Home Page at: http://www2.dol.gov/odep. Award notifications will also be published on the ODEP Homepage.

SUPPLEMENTARY INFORMATION:

Part I. Delivery of Applications

1. Late Applications

Any application received after the exact date and time specified for receipt at the office designated in this notice will be considered non-responsive, unless it is received before awards are made and it (a) is determined that its late receipt was caused by DOL error; (b) was sent by U.S. Postal Service registered or certified mail not later than the fifth calendar day before the date specified for receipt of applications (e.g., an application submitted in response to a solicitation requiring receipt of applications by the 20th of the month must have been post marked by the 15th of that month); or (c) was sent by the U.S. Postal Service Express Mail Next Day Service to addressee not later than 5 p.m. at the place of mailing two working days prior to the date specified for receipt of applications. The term “working days” excludes weekends and Federal holidays. “Post marked” means a printed, stamped or otherwise placed impression (exclusive of a postage meter machine impression) that is readily identifiable, without further action, as having been supplied or affixed on the date of mailing by an employee of the U.S. Postal Service.

2. Withdrawal of Applications

Applications may be withdrawn by written notice or telegram (including mail gram) received at any time before an award is made. Applications may be withdrawn in person by the applicant or by an authorized representative thereof, if the representative's identity is made known and the representative signs a receipt of the proposal.

3. Hand-Delivered Proposals

It is preferred that applications be mailed at least five days prior to the closing date. To be considered for funding, hand-delivered applications must be received by 4:45 p.m., ET, at the specified address. Failure to adhere to the above instructions will be basis for a determination of non-responsiveness. Overnight express mail from carriers other than the U.S. Postal Service will be considered hand-delivered applications and must be received by the above specified date and time.

Part II. Authority

Omnibus Appropriations Resolution, 2003, Public Law 1087; Consolidated Appropriations Act, 2001, Public Law 106-554, 29 U.S.C. 557b.

Part III. Background and Purpose

Background

Based on the 1995 American Housing Survey, almost 8.9 million housing units in the United States had at least one occupant who had a physical activity limitation—approximately 9.1 percent of the 97.7 million occupied housing units that year. It is estimated that as many as 3.4 million (38.4 percent) of homes with at least one occupant with activity limitations had some type of home modification (such as grab bars and ramps). In 3.3 million (36.9 percent) of the homes, an occupant with activity limitations received help from another person. Canes, walkers, or crutches were used in 3.4 million (37.9 percent) of the homes; wheelchairs, 1.4 million (15.3 percent); motorized or electric carts, 161,000 (1.8 percent); and other devices, 462,000 (5.2 percent). Approximately 5.1 million (57.4 percent) of the households in which a member had an activity limitation had no home modifications present.

In general, funding to meet this significant home modification need is scarce nationally and eligibility is often limited for the few programs available that help an individual in need of home modifications. Assistance through the Veterans Administration for some modifications, for example, is only available to eligible veterans. Some Centers for Independent Living provide funds for such purposes, but the funding is extremely limited and not widely available, particularly in rural areas. The Social Security Administration may allow deductions for the cost of certain modifications from earned income, but only to participants in certain work programs and if the modifications are deemed required for employment outcomes. Vocational Rehabilitation may also provide funding for some home modifications, but only for those eligible individuals seeking employment. The Fair Housing Act mandates that the landlord allow a tenant to make modifications, but usually at their own expense and with the responsibility to return the rental property to its original state upon termination of the lease. The Department of Housing and Urban Development's (HUD) Section 203(b) loan program allows funding to be used for home modifications, but many simply cannot afford such loans.

In many communities across the country, older Americans and people with disabilities must rely on faith-based and community organizations as well as charitable associations for such assistance. In many cases, such funding is simply not available at all. Often, individuals are, in essence, “forced” to leave their homes for nursing homes or assisted living facilities, or prevented from moving into otherwise affordable housing, due to such inaccessibility. Just as often, opportunities for employment must go unrealized due to an inability to leave one's house without great effort.

Purpose

Through the President's Faith-Based and Community Initiative (FBCI), local faith-based and community organizations can take a leadership role in assisting individuals with disabilities to remain in their homes, or to move into accessible homes. To coordinate this effort, DOL is partnering with the Corporation for National and Community Service (CNCS) and HUD to promote the development of home modifications as a means to encourage the employment of individuals with disabilities. This unique partnership will allow the Federal government to promote both the spirit and the responsibilities of both the New Freedom Initiative and the Olmstead Executive Order, while concurrently recognizing the valuable community roles played by America's faith-based and community organizations. Moreover, it is the intention of this solicitation to assist individuals with disabilities to remain in their homes or move into accessible housing and thereby directly facilitate and provide these employment supports to further their opportunities to seek and retain employment and training in their communities.

Part IV. Funding Availability and Period of Performance

The ODEP anticipates awarding approximately up to ten competitive grants in the amount of $50,000 to $100,000 each to provide home modifications as a means of further expanding the community integration of individuals with disabilities, and particularly those seeking employment. Grants will be awarded for a 12-month period of performance. After one year of support, it is anticipated that the grantees will have identified and developed the funds and resources needed to continue the expansion of such home modification programs within their respective localities.

This solicitation calls for the creation of several local programs to provide home modifications to assist individuals with disabilities and older Americans to live and work in their communities. Funding will be provided for local organizations to purchase materials, analyze accessibility, and build the necessary modifications. These organizations are encouraged to seek donations of materials and labor from local businesses, labor organizations, and community associations. In addition, these organizations are also strongly encouraged to work with their local Centers for Independent Living and other disability advocacy organizations to determine local need and potential resources.

Part V. Eligible Applicants and Required Partnerships

Eligible Applicants

Eligible applicants include faith-based and community organizations that must be non-profit entities (although not 501(c)(4) entities subject to the Lobbying Disclosure Act) that also:

(1) Have social services as a major part of their mission;

(2) Are headquartered in the local community to which they provide these services; and

(3) Have a total annual operating budget of $300,000 or less, or have six (6) or fewer full-time equivalent employees.

Note: For purposes of this SGA, local affiliates of national social service organizations are not considered “faith-based and community organizations” and are not eligible to apply.

Part VI. Format Requirements for Grant Application

General Requirements

Applicants must submit one (1) paper copy with an original signature and two (2) additional paper copies of their signed proposal. To aid with the review of applications, USDOL also encourages Applicants to submit an electronic copy of their proposal on a disc or CD using Microsoft Word. Applicants who do not provide an electronic copy will not be penalized. The Application Narrative must be double-spaced with standard margins on 8½ x 11 papers, and be presented on single-sided, numbered pages with the exception of format requirements for the Executive Summary. The Executive Summary must be limited to no more than two single-spaced, single-sided pages on 8½ x 11 papers with standard margins throughout. A font size of at least twelve (12) pitch is required throughout. Applications that fail to meet these requirements will be considered non-responsive.

The three required sections of the application are:

Section I—Project Financial Plan

Section II—Executive Summary—Project Synopsis

Section III—Project Narrative (including Attachments, not to exceed 15 pages)

Mandatory requirements for each section are provided as follows in this application package. Applications that fail to meet the stated mandatory requirements of each section will be considered non-responsive.

Mandatory Application Requirements

• Section I. Project Financial Plan (Budget) [The Project Financial Plan will not count against the application page limits.] Section I of the application must include the following three required parts:

(1) Completed “SF 424—Application for Federal Assistance” (See Appendix A of this SGA for required form)

(2) Completed “SF 424A—Budget Information Form” by line item for all costs required to implement the project design effectively. (See Appendix B of this SGA for required forms.)

(3) Budget Narrative and Justification that provides sufficient information to support the reasonableness of the costs included in the budget in relation to the service strategy and planned outcomes.

The application must include one SF-424 with the original signatures of the legal entity applying for grant funding and 2 additional copies. Applicants shall indicate on the SF-424 the organization's IRS status, if applicable. Under the Lobbying Disclosure Act of 1995, Section 18 (29 U.S.C. 1611), an organization described in Section 501(c)(4) of the Internal Revenue Code of 1986 that engages in lobbying activities will not be eligible for the receipt of Federal funds constituting an award, grant, or loan. (See 2 U.S.C. 1611; 26 U.S.C. 501(c)(4).) For item 10 of the SF-424, the Catalog of Federal Domestic Assistance (CFDA) number for the program is 17.720.

The Budget Narrative and Justification must describe all costs associated with implementing the project that are to be covered with grant funds. Grantees must support the travel and associated costs with sending at least one representative to the annual ODEP Policy Conference for Grantees, to be held in Washington, DC, at a time and place to be determined. Grantees must comply with the “Uniform Administrative Requirements for Grants and Cooperative Agreements to State and Local Governments,” (also known as the “Common Rule”) codified at 29 CFR part 97, and must comply with the applicable OMB cost principles circulars, as identified in 29 CFR 95.27 and 29 CFR 97.22(b).

In addition, the budget must include on a separate page a detailed cost analysis of each line item. Justification for administrative costs must be provided. Approval of a budget by the DOL is not the same as the approval of actual costs. The individual signing the SF 424 on behalf of the applicant must represent and be able to legally bind the responsible financial and administrative entity for a grant should that application result in an award. The applicant must also include the Assurances and Certifications Signature Page (Appendix C).

• Section II. Executive Summary—Project Synopsis [The Executive Summary is limited to no more than two single-spaced, single-sided pages on 8½ x 11 papers with standard margins throughout]. Each application shall include a project synopsis that identifies the following:

(1) The name of the applicant;

(2) The type of organization the applicant represents, the additional consortium partners and the type of organization they represent;

(3) The amount of funds requested;

(4) The planned period of performance;

(5) An overview of the applicant's plan accomplishing the goals of Home Modification; and

(6) An overview of the applicant's plan for sustaining the Home Modification program once Federal funding ceases.

• Section III. Project Narrative [The Project Narrative plus attachments are limited to no more than fifteen (15) 8½ x 11 pages, double-spaced with standard one-inch margins (top, bottom, and sides), and be presented on single-sided, numbered pages. Note: The Financial Plan, the Executive Summary, and the Appendices are not included in the fifteen (15)-page limit]. The substantive requirements for the project narrative are described below under Part VII—Statement of Work.

All text in the application narrative, including titles, headings, footnotes, quotations, and captions, as well as all text in charts, tables, figures, and graphs must be double-spaced (no more than three lines per vertical inch); and, if using a proportional computer font, use no smaller than a 12-point font, and an average character density no greater than 18 characters per inch (if using a non-proportional font or a typewriter, do not use more than 12 characters per inch). Applications that fail to meet these requirements will be considered non-responsive.

Part VII. Government Requirements/Statement of Work [Project Narrative]

The Project Narrative, or Section III of the grant application, should provide complete information on how the applicant will utilize an expanded capacity through this funding, to assess the need for home modifications for local residents with disabilities, and to arrange and complete those modifications. This system will better serve individuals with disabilities as they transition from facility-based residential sites to community housing, and to the work world. The period of performance will be 12 months from the date of execution by the Government. Up to ten competitive grants will be awarded in the range of $50,000 to $100,000. This grant program will target five to ten localities to conduct this effort. Each locality will be responsible for:

(1) Recruiting targeted recipients,

(2) Assessing the necessary modifications,

(3) Conducting the work,

(4) Arranging sufficient and appropriate press opportunities, and

(5) Submitting summaries of their respective activities.

The Project Narrative of the grant application must provide complete information that will address the requirements of this SGA, including significance of the proposed project. The Department, however, does not expect the applicant to incorporate every item listed as part of their strategy and proposal design. The Department recognizes that the needs and requirements of each locality may be different, and therefore, some of the options identified may be more relevant than others in a particular locality.

1. Significance of the Proposed Project (20 Points)

The purpose of the Significance of the Proposed Project is to assess the overall elements of the applicant's proposal; to identify strengths and deficiencies to be addressed by the applicant's proposal; to identify the overall scope of proposal objectives and design; and, to present the applicant's need for Home Modification grant resources. This criterion will be rated based upon the applicant's proposed approach to addressing identified community needs in the context of the grant priorities.

The Project Narrative must include:

(1) Evidence of significant previous involvement in the provision of home modifications for persons with disabilities or older Americans;

(2) Current and anticipated linkages with local disability-related organizations, such as Centers for Independent Living, vocational rehabilitation agencies, local governmental entities, faith-based and community organizations, and/or provider agencies; and

(3) Describe how individuals with disabilities from diverse cultures will be recruited for participation in this effort; demonstrate how special emphasis will be made on the recruitment of individuals who are seeking employment outcomes or who are currently working from home.

Positive press clippings and “success stories”, if available, should also be included.

In determining the significance of the proposed project, ODEP will consider the following factors:

(a) The potential contribution of the proposed project to the employment of individuals with disabilities;

(b) The current level of similar activity in the applicant's locality and those sites commitment to work with this application;

(c) The extent to which the proposed project is likely to yield findings that may be used by other appropriate agencies and organizations;

(d) The extent to which the proposed project involves the development or demonstration of promising new strategies to expand home modification options for individuals with disabilities;

(e) The likely utility of the products (such as information, materials, processes, or techniques) that will result from the proposed project; and

(f) The importance or magnitude of the results likely to be attained by the proposed project.

2. Quality of the Project Design (30 Points)

The purpose of the Quality of the Project Design criteria is to identify the strategic plan proposed by the grantee to implement the Home Modification program in their locality. The application must address the proposed design for a locally based effort. The plan should identify:

(1) Local organizations' roles within the proposed activities, including faith-based and community organizations;

(2) How those organizations will integrate resources to advance the effort;

(3) The proposed plan for recruiting individuals with disabilities, especially those either seeking employment or currently working from home;

(4) Plans, if warranted, for long term funding for the initiative;

(5) Evidence of working with their local One-Stop Career Center(s) for purposes of outreach and referral.

(6) Provide an estimate of the type and extent of modifications, as well as the number of expected target recipients;

(7) Identify any matching funds, including federal housing funds (such as Community Development Block Grants and HOME Program funds), corporate funding, local governmental funding, etc., to be utilized; and

(8) Provide an estimate of expected donated materials as well as in-kind contributions, including volunteer time.

In evaluating the quality of the proposed project design, the ODEP will also consider the following factors:

(a) The extent to which the goals, objectives, and outcomes to be achieved are clearly specified and measurable;

(b) The extent to which the design of the proposed project features innovative methods for developing new sites and/or strengthening existing sites;

(c) The extent to which the proposal incorporates a viable strategic plan;

(d) The extent to which the proposed project is designed to build capacity and yield results that will extend beyond the period of this grant;

(e) The extent to which the proposed budget and narrative justification are adequate to support the proposed project; and

(f) The extent to which the proposed project will be coordinated with similar or related efforts.

3. Sustainability Through Leveraging of Other Resources (25 Points)

The Project Narrative must describe a detailed plan for sustaining this project after grant funds cease. Projects funded under this SGA should leverage a combination of Federal, state, and local public sector resources, as well as local non-profit sector resources for purposes of sustainability.

The successful applicant will:

(1) Describe the strategy for gaining the support of area employers, people with disabilities and their family members, and local governmental and nongovernmental disability organizations;

(2) Identify federal, state, and local public sector resources, as well as local non-profit sector resources that will be leveraged for purposes of sustainability after the grant period ends;

(3) Document a willingness to cooperate with the ODEP and its technical assistance efforts to provide information and advice to other localities on how the home modifications activities can be replicated.

In evaluating the quality of the plan for sustainability, the DOL will also consider the following factors to be of particular importance:

(a) The extent to which public and private monies are leveraged effectively; and

(b) The likelihood of the applicant successfully securing local ownership and participation in these projects when these grant funds cease.

Grantees are expected to use this grant as seed money to develop other public and private resources in order to ensure sustainability of grant activities following completion of the funding period. The ODEP considers detailed commitments for specific new activities as more important than promises of in-kind supports in showing sustained support for the project. Grants recently received from another agency can be discussed in the proposal, but the applicant should be precise about which activities precede this grant and which will occur because of this grant. In addition, the applicant should detail how public sector commitments can contribute to the sustainability of this project following completion of the grant. Examples of the types of public and private sector commitments envisioned include the following:

Letters of Commitment

Applicants can include letters of support if they provide specific commitments. Such letters can increase an applicant's score by showing that the commitments in the text of the proposal are serious. Form letters will not be considered.

Letter From the Mayor

A letter from the Mayor or functionally equivalent entity reflecting support of local level participation in the Home Modifications Program will be viewed favorably.

4. Management, Outcomes and Personnel (25 Points)

The purpose of the Management, Outcomes and Personnel criteria is to determine whether the applicant has developed an adequate management and personnel plan to effectively carry out the objectives and scope of the proposed project on time and within budget, to describe the predicted outcomes resulting from activities funded under this SGA, and to identify the methods of evaluation that will be used by the grantee to determine success.

Successful applicants will provide a detailed management plan for project goals, objectives, personnel and activities that:

(1) Describes plans to report the demographic characteristics of assisted individuals (including types if disabilities);

(2) Provides a commitment to submit “stories” outlining the results of their efforts;

(3) Describes the proposed staffing of the project;

(4) Addresses staff capacity in relationship to the proposed project design;

(5) Identifies and summarizes the qualifications of the personnel, including the relevant training and experience of project consultants or subcontractors, who will carry out the work of the project. [Projects funded under this notice must demonstrate positive efforts to employ and advance in that employment qualified individuals with disabilities in project activities.]

In evaluating the quality of the management, outcomes and personnel plan for the proposed project; ODEP will consider the following factors:

(a) The extent to which the goals, objectives, and outcomes to be achieved are clearly specified and measurable;

(b) The extent to which a management plan for project implementation is likely to achieve the objectives of the proposed project on time and within budget, including defined staff responsibilities, and time allocated to project activities, time lines, milestones for accomplishing project tasks and project deliverables;

(c) The adequacy of mechanisms for ensuring high-quality products and services from the proposed project; and,

(d) The extent to which the time commitments of the local director and/or and other key project personnel are appropriate and adequate to meet the objectives of the proposed project.

(e) The qualifications, including relevant education, training and experience of key project personnel as well as the qualifications, including relevant training and experience, of project consultants or subcontractors.

Part VIII. Monitoring and Reporting

Monitoring

The ODEP is responsible for ensuring the effective implementation of each competitive grant project in accordance with the provisions of this announcement and the terms of the grant award document. The DOL staff, or their designees may conduct on-site project reviews periodically. Reviews will focus on timely project implementation, performance in meeting the grant's programmatic goals and objectives, expenditure of grant funds on allowable activities, integration and coordination with other resources and service providers in the local area, and project management and administration in achieving project objectives.

Reporting

Grantees will be required to submit quarterly financial and narrative progress reports as prescribed by OMB Circular A-102 and A-110, as codified by 29 CFR Parts 97 and 95 respectively.

(1) A Quarterly Report will be required within thirty (30) days of the end of each quarter beginning ninety days from the award of the grant and is estimated to take five hours to prepare on average. The form for the Quarterly Report will be provided by the ODEP. The ODEP will work with the grantee to help refine the requirements of the report, which will, among other things, include measures of ongoing analysis for continuous improvement and customer satisfaction.

(2) Financial reporting will be required quarterly using the on-line electronic reporting system for the Standard Form 269—Financial Status Report (FSR).

(3) A Final Project Report, including an assessment of project performance and outcomes achieved will be required and is estimated to take twenty hours to complete. This report will be submitted in hard copy and on electronic disk using a format and following instructions that will be provided by the ODEP. A draft of the final report is due to the ODEP thirty (30) days before the termination of the grant. The final report is due to the ODEP sixty (60) days following the termination of the grant.

The ODEP may arrange for and conduct an independent evaluation of the outcomes, impacts, and accomplishments of each funded project. Grantees must agree to make available records on all parts of project activity, including participant post secondary and employment data, and to provide access to personnel, as specified by the evaluator(s), under the direction of the ODEP. This independent evaluation is separate from the ongoing evaluation for continuous improvement required of the grantee for project implementation.

Grantees must also agree to work with the ODEP in its various technical assistance efforts in order to freely share with others what is learned about delivering customized employment services to the Olmstead population. Grantees must agree to collaborate with other research institutes, centers, studies, and evaluations that are supported by DOL and other relevant Federal agencies, as appropriate. Finally, Grantees must agree to actively utilize the programs sponsored by the ODEP, including the Job Accommodation Network, (http://www.jan.wvu.edu), and the Employer Assistance Referral Network (http://www.earnworks.com).

Part IX. Review Process and Evaluation Criteria

All applications will be reviewed for compliance with the requirements of this notice. A careful evaluation of applications will be made by a technical review panel, which will evaluate the applications against the rating criteria listed in this SGA. The panel results are advisory in nature and not binding on the Grant Officer. The DOL may elect to award grants either with or without discussion with the applicant. In situations without discussions, an award will be based on the applicant's signature on the SF 424, which constitutes a binding offer. The Grant Officer may consider any information that is available and will make final award decisions based on what is most advantageous to the Government, considering factors such as:

Panel findings;

Geographic distribution of the competitive applications; and

Availability of funds.

X. Administration Provisions

A. Administrative Standards and Provisions

Grantees are strongly encouraged to read these regulations before submitting a proposal. The grant awarded under this SGA shall be subject to the following as applicable:

• 29 CFR part 95—Grants and Agreements With Institutions of Higher Education, Hospitals, and Other Non-Profit Organizations, and With Commercial Organizations, Foreign Governments, Organizations Under the Jurisdiction of Foreign Governments, and International Organizations;

• 29 CFR part 96—Audit Requirements for Grants, Contracts, and Other Agreements.

B. Allowable Cost

Determinations of allowable costs shall be made in accordance with the following applicable Federal cost principles:

• Nonprofit Organizations—OMB Circular A-122

• Profit-Making Commercial Firms—48 CFR part 31

Profit will not be considered an allowable cost in any case.

C. Grant Assurances

As a condition of the award, the applicant must certify that it will comply fully with the nondiscrimination and equal opportunity provisions of the following laws:

• 29 CFR part 31—Nondiscrimination in Federally-assisted programs of the Department of Labor, effectuation of Title VI of the Civil Rights Act of 1964.

• 29 CFR part 32— Nondiscrimination on the Basis of Disability in Programs and Activities Receiving or Benefiting from Federal Assistance. (Implementing section 504 of the Rehabilitation Act, 29 U.S.C. 794)

• 29 CFR part 36—Nondiscrimination on the Basis of Sex in Education Programs or Activities Receiving Federal Financial Assistance. (Implementing title IX of the Education Amendments of 1972, 20 U.S.C. 1681 et. seq.)

The applicant must include assurances and certifications that it will comply with these laws in its grant application. The assurances and certifications are attached as Appendix C.

Signed at Washington, DC, this 20th day of May, 2003
Lawrence J. Kuss,
Grant Officer.

Appendix A. Application for Federal Assistance, Form SF 424

Appendix B. Budget Information Sheet, Form SF 424A

Appendix C. Assurances and Certifications Signature Page

Appendix D. Survey on Ensuring Equal Opportunity

BILLING CODE 4510-CX-P

[FR Doc. 03-13399 Filed 5-28-03; 8:45 am]

BILLING CODE 4510-CX-C